DEPARTMENT OF TRANSPORTATION

Federal Aviation Administration

Permanent Closure of the St. Marys Airport, St. Marys, Georgia

AGENCY: Federal Aviation Administration (FAA), DOT.

ACTION: Notice.

SUMMARY: The FAA is publishing this notice of a pending action required by statute. The National Defense Authorization Act (NDAA) for Fiscal Year 2017 requires the FAA to release the City of St. Marys, Georgia, from all restrictions, conditions, and limitations on the use, encumbrance, conveyance, and closure of the St. Marys Airport. On March 6, 2017, the City of St. Marys provided written notice to the Federal Aviation Administration (FAA) of its intent to permanently close the St. Marys Airport (4J6), in St. Marys, Georgia on July 14, 2017. The City of St. Marys provided this notice to the FAA in excess of 30 days before the permanent closure. The FAA hereby publishes the City of St. Marys' notice of permanent closure of the St. Marys Airport.

DATES: The permanent closure of the airport is effective as of July 14, 2017.

FOR FURTHER INFORMATION CONTACT: Rob Rau, Georgia Program Manager, Atlanta Airports District Office, 1701 Columbia Ave., Room 220, College Park, Georgia 30337-2747, (404) 305-6748.

SUPPLEMENTARY INFORMATION: The National Defense Authorization Act for Fiscal Year 2017 (Pub. L. 114-328) requires the FAA to release the City of St. Marys, Georgia, from all restrictions, conditions, and limitations on the use, encumbrance, conveyance, and closure of the St. Marys Airport (4J6). This non-towered, general aviation airport consists of approximately 285-acres and 15 based aircraft. Title 49 United States Code 46319 states that a public agency (as defined in section 47102) may not permanently close an airport listed in the National Plan of Integrated Airport Systems under section 47103 without providing written notice to the Administrator of the FAA at least 30 days before the date of the closure. The FAA recognizes that the City of St. Marys met this requirement on March 6, 2017.

Issued in Atlanta, Georgia, on March 28, 2017.
Larry F. Clark,
Manager, Atlanta Airports District Office, Southern Region.

[FR Doc. 2017-06740 Filed 4-4-17; 8:45 am]

BILLING CODE 4910-13-P